NATIONAL SCIENCE FOUNDATION

Comment Request: Research Performance Progress Report

AGENCY: National Science Foundation.

ACTION: Notice.

SUMMARY: The Research Performance Progress Report (RPPR) resulted from an initiative of the Research Business Models (RBM) Subcommittee of the Committee on Science (CoS), a committee of the National Science and Technology Council (NSTC). Following guidance set out by OSTP and OMB in April 2010, the National Science Foundation (NSF) received authorization from OMB to use the RPPR.

NSF is announcing plans to request renewed clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by June 5, 2015 to be assured of consideration. Comments received after that date will be considered to the extent practicable.

ADDRESSES: Written comments regarding the information collection and requests for copies of the proposed information collection request should be addressed to Suzanne Plimpton, Reports Clearance Officer, National Science Foundation, 4201 Wilson Blvd., Rm. 1265, Arlington, VA 22230, or by email to splimpto@nsf.gov.

FOR FURTHER INFORMATION CONTACT: Suzanne Plimpton on (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: “Research Performance Progress Report.”

OMB Approval Number: 3145-0221.

Expiration Date of Approval: July 31, 2015.

Type of Request: Intent to seek approval to extend an information collection for three years.

Use of the Information

NSF developed the RPPR as a new service within Research.gov. This service replaced NSF's annual and interim project reporting capabilities, which resided in the NSF FastLane System.

Information regarding NSF's implementation of the Research Performance Progress Report (RPPR) may be found at the following Web site: www.research.gov

Burden on the Public: The Foundation estimates that an average of 6.6 hours is expended for each report submitted. An estimated 116,404 reports are expected during the course of one year for a total of 768,266 public burden hours annually.

Dated: April 1, 2015.
Suzanne H. Plimpton,
Reports Clearance Officer, National Science Foundation.

[FR Doc. 2015-07782 Filed 4-3-15; 8:45 am]

BILLING CODE 7555-01-P